NUCLEAR REGULATORY COMMISSION

[NRC-2025-0050]

Information Collection: NRC Form 748, National Source Tracking System Report

AGENCY: Nuclear Regulatory Commission.

ACTION: Renewal of existing information collection; request for comment.

SUMMARY: The U.S. Nuclear Regulatory Commission (NRC) invites public comment on the renewal of Office of Management and Budget (OMB) approval for an existing collection of information. The information collection is entitled, NRC Form 748, “National Source Tracking System Report.”

DATES: Submit comments by February 9, 2026. Comments received after this date will be considered if it is practical to do so, but the Commission is able to ensure consideration only for comments received on or before this date.

ADDRESSES: You may submit comments by any of the following methods; however, the NRC encourages electronic comment submission through the Federal rulemaking website:

• Federal rulemaking website: Go to https://www.regulations.gov and search for Docket ID NRC-2025-0050. Address questions about Docket IDs in Regulations.gov to Bridget Curran; telephone: 301-415-1003; email: Bridget.Curran@nrc.gov. For technical questions, contact the individual(s) listed in the FOR FURTHER INFORMATION CONTACT section of this document.

• Mail comments to: Heather Dempsey, Office of the Chief Information Officer, Mail Stop: T-6 A10M, U.S. Nuclear Regulatory Commission, Washington, DC 20555-0001.

For additional direction on obtaining information and submitting comments, see “Obtaining Information and Submitting Comments” in the SUPPLEMENTARY INFORMATION section of this document.

FOR FURTHER INFORMATION CONTACT: Heather Dempsey, Office of the Chief Information Officer, U.S. Nuclear Regulatory Commission, Washington, DC 20555-0001; telephone: 301-415-0856; email: Infocollects.Resource@nrc.gov.

SUPPLEMENTARY INFORMATION:

I. Obtaining Information and Submitting Comments

A. Obtaining Information

Please refer to Docket ID NRC-2025-0050 when contacting the NRC about the availability of information for this action. You may obtain publicly available information related to this action by any of the following methods:

• Federal Rulemaking website: Go to https://www.regulations.gov and search for Docket ID NRC-2025-0050. A copy of the collection of information and related instructions may be obtained without charge by accessing Docket ID NRC-2025-0050 on this website.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. A copy of the collection of information and related instructions may be obtained without charge by accessing ADAMS Accession Nos. ML25246C245, ML25246C246, ML25246C247, ML25246C248, ML25246C249, ML25246C250, ML25246C252, and ML25246C253, respectively. The supporting statement is available in ADAMS under Accession ML25206A392.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• NRC's Clearance Officer: A copy of the collection of information and related instructions may be obtained without charge by contacting the NRC's Acting Clearance Officer, Heather Dempsey, Office of the Chief Information Officer, U.S. Nuclear Regulatory Commission, Washington, DC 20555-0001; telephone: 301-415-0856 email: Infocollects.Resource@nrc.gov.

B. Submitting Comments

The NRC encourages electronic comment submission through the Federal rulemaking website (https://www.regulations.gov). Please include Docket ID NRC-2025-0050, in your comment submission.

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the NRC, then you should inform those persons not to include identifying or contact information that they do not want to be publicly disclosed in their comment submission. Your request should state that comment submissions are not routinely edited to remove such information before making the comment submissions available to the public or entering the comment into ADAMS.

II. Background

In accordance with the Paperwork Reduction Act of 1995 (44 U.S.C. Chapter 35), the NRC is requesting public comment on its intention to request the OMB's approval for the information collection summarized as follows.

1. The title of the information collection: NRC Form 748, National Source Tracking System Report.

2. OMB approval number: 3150-0202.

3. Type of submission: Extension.

4. The form number, if applicable: NRC Form 748.

5. How often the collection is required or requested: On occasion (at completion of a transaction, and at inventory reconciliation).

6. Who will be required or asked to respond: Licensees that manufacture, receive, transfer, disassemble, or dispose of nationally tracked sources.

7. The estimated number of annual responses: 17,825.

8. The estimated number of annual respondents: 977.

9. The estimated number of hours needed annually to comply with the information collection requirement or request: 2,181.

10. Abstract: The NRC's National Source Tracking System (NSTS) is a secure, centralized database used to track the life cycle of certain high-risk sealed radioactive sources. Licensees are required to report key transactions involving these nationally tracked sources, including manufacture, transfer, receipt, disassembly, and disposal. These reporting requirements, first established in 2006 and fully implemented in subsequent years, support a comprehensive radioactive source control program for radioactive materials of greatest concern. Information collected through the NSTS is mandatory and plays a critical role in enhancing the NRC's and Agreement States' ability to track sources from manufacture through final disposition. The NSTS strengthens regulatory oversight by supporting inspections and investigations, enabling timely communication with other government agencies, and verifying the legitimate ownership and use of these sources.

III. Specific Requests for Comments

The NRC is seeking comments that address the following questions:

1. Is the proposed collection of information necessary for the NRC to properly perform its functions? Does the information have practical utility? Please explain your answer.

2. Is the estimate of the burden of the information collection accurate? Please explain your answer.

3. Is there a way to enhance the quality, utility, and clarity of the information to be collected?

4. How can the burden of the information collection on respondents be minimized, including the use of automated collection techniques or other forms of information technology?

Dated: December 8, 2025.
For the Nuclear Regulatory Commission.
Heather Dempsey,
NRC Acting Clearance Officer, Office of the Chief Information Officer.

[FR Doc. 2025-22477 Filed 12-10-25; 8:45 am]

BILLING CODE 7590-01-P